DEPARTMENT OF COMMERCE

Foreign-Trade Zones Board

[B-54-2019]

Foreign-Trade Zone (FTZ) 78—Nashville, Tennessee; Authorization of Production Activity; Lasko Products, LLC; (Small Consumer Appliances—Fans, Heaters, Humidifiers); Franklin, Tennessee

On August 21, 2019, Lasko Products, LLC (Lasko) submitted a notification of proposed production activity to the FTZ Board for its facility within FTZ 78, in Franklin, Tennessee.

The notification was processed in accordance with the regulations of the FTZ Board (15 CFR part 400), including notice in the Federal Register inviting public comment (84 FR 47240, September 9, 2019). On December 19, 2019, the applicant was notified of the FTZ Board's decision that no further review of the activity is warranted at this time. The production activity described in the notification was authorized, subject to the FTZ Act and the FTZ Board's regulations, including Section 400.14.

Dated: December 19, 2019.
Andrew McGilvray,
Executive Secretary.

[FR Doc. 2019-28035 Filed 12-27-19; 8:45 am]

BILLING CODE 3510-DS-P